EXPORT IMPORT BANK OF THE UNITED STATES

[OMB Control No: 3048-0016 EIB 92-36]

Agency Information Collection: Emergency Submission for OMB Review

AGENCY: Export Import Bank of the United States.

ACTION: Notice (2011-0021).

SUMMARY: In compliance with the Paperwork Reduction Act (PRA) of 1995 (44 U.S.C., 3501-3521), this notice announces that the Export Import Bank of the United States (Ex-Im), will submit to the Office of Management and Budget (OMB) the following emergency proposal for the collection of information in reference to the Application for Issuing Bank Credit Limit (IBCL) Under Bank Letter of Credit Policy.

The Application for Issuing Bank Credit Limit (IBCL) Under Bank Letter of Credit Policy will be used by entities involved in the export of US goods and services. The Export Import Bank is submitting this emergency submission for a six (6) month approval from OMB to provide time to revise the application and update their burden hours.

The Bank will be removing the questions 6h and 6i and revising the burden hours. After the publication of this notice in the Federal Register and Office of Management and Budget approval for the six (6) month emergency submission, the Export Import Bank will proceed with the normal approval process and publish the 60 day and 30 day public comment notices in the Federal Register.

EIB 92-36 Application for Issuing Bank Credit Limit (IBCL) under Bank Letter of Credit Policy

OMB Number: 3048-0016.

Type of Review: Emergency Submission.

Need and Use: The information collected will provide information needed to determine compliance and creditworthiness for transaction requests submitted to the Export Import Bank under its long term guarantee and direct loan programs.

Affected Public: This form affects entities involved in the export of U.S. goods and services.

Annual Number of Respondents: 480.

Estimated Time per Respondent: 20 minutes.

Government Annual Burden Hours: 480 hours.

Sharon A. Whitt,
Agency Clearance Officer.

[FR Doc. 2011-3108 Filed 2-10-11; 8:45 am]

BILLING CODE 6690-01-P